NUCLEAR REGULATORY COMMISSION

[Docket Nos. 50-348 and 50-369]

Southern Nuclear Operating Company, Inc.; Notice of Withdrawal of Application for Amendment to Facility Operating License

AGENCY: Nuclear Regulatory Commission.

ACTION: Notice of withdrawal; correction.

SUMMARY: This document corrects a notice appearing in the Federal Register on December 17, 2003 (68 FR 70320), that corrects the licensee name.

FOR FURTHER INFORMATION CONTACT: Sean Peters, Office of Nuclear Reactor Regulation, U.S. Nuclear Regulatory Commission, Washington, DC 20555-0001; telephone (301) 415-1842, e-mail: sep@nrc.gov.

SUPPLEMENTARY INFORMATION: On page 70320, in the first column, in the first complete paragraph, first line, it is corrected to read from “Duke Energy Corporation” to “Southern Nuclear Operating Company, Inc.”

Dated in Rockville, Maryland, this 13th day of January 2004.
For the Nuclear Regulatory Commission.
Sean E. Peters,
Project Manager, Section 1, Project Directorate II, Division of Licensing Project Management, Office of Nuclear Reactor Regulation.

[FR Doc. 04-1106 Filed 1-16-04; 8:45 am]

BILLING CODE 7590-01-P